NATIONAL FOUNDATION ON THE ARTS AND THE HUMANITIES

National Endowment for the Humanities

Meetings of Humanities Panel

AGENCY: National Endowment for the Humanities, National Foundation on the Arts and the Humanities.

ACTION: Notice of meetings.

SUMMARY: The National Endowment for the Humanities will hold six meetings of the Humanities Panel, a federal advisory committee, during June, 2017. The purpose of the meetings is for panel review, discussion, evaluation, and recommendation of applications for financial assistance under the National Foundation on the Arts and Humanities Act of 1965.

DATES: See SUPPLEMENTARY INFORMATION section for meeting dates. The meetings will open at 8:30 a.m. and will adjourn by 5:00 p.m. on the dates specified below.

ADDRESSES: The meetings will be held at Constitution Center at 400 7th Street SW., Washington, DC 20506, unless otherwise indicated.

FOR FURTHER INFORMATION CONTACT: Elizabeth Voyatzis, Committee Management Officer, 400 7th Street SW., Room 4060, Washington, DC 20506; (202) 606-8322; evoyatzis@neh.gov.

SUPPLEMENTARY INFORMATION: Pursuant to section 10(a)(2) of the Federal Advisory Committee Act (5 U.S.C. App.), notice is hereby given of the following meetings:

1. Date: June 26, 2017.

This meeting will discuss applications on the subjects of the Classics, Philosophy, Religion, and European History, for NEH-Mellon Fellowships for Digital Publication, submitted to the Division of Research Programs.

2. Date: June 26, 2017.

This meeting will discuss applications on the subjects of the Arts, Media & Communication, Philosophy & Religion, for the Awards for Faculty grant program, submitted to the Division of Research Programs.

3. Date: June 27, 2017.

This meeting will discuss applications on the subjects of World History, Linguistics, and the Social Sciences, for NEH-Mellon Fellowships for Digital Publication, submitted to the Division of Research Programs.

4. Date: June 27, 2017.

This meeting will discuss applications on the subject of Literature Studies, for the Awards for Faculty grant program, submitted to the Division of Research Programs.

5. Date: June 28, 2017.

This meeting will discuss applications on the subjects of History & Politics, for the Awards for Faculty grant program, submitted to the Division of Research Programs.

6. Date: June 29, 2017.

This meeting will discuss applications on the subjects of American History, American Studies & Social Sciences, for the Awards for Faculty grant program, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: May 8, 2017.
Elizabeth Voyatzis,
Committee Management Officer.

[FR Doc. 2017-09600 Filed 5-11-17; 8:45 am]

BILLING CODE 7536-01-P